ENVIRONMENTAL PROTECTION AGENCY

40 CFR Part 52

[Docket No. AK-01-003a; FRL-6986-5]

Clean Air Act Attainment Extension for the Fairbanks North Star Borough Carbon Monoxide Nonattainment Area: Alaska

AGENCY: Environmental Protection Agency (EPA).

ACTION: Proposed rule.

SUMMARY: We propose to grant the one (1) year attainment date extension request for the Fairbanks North Star Borough carbon monoxide (CO) nonattainment area submitted by the State of Alaska on March 29, 2001. In the Final Rules section of this Federal Register, we are approving the State's extension request as a direct final rule without prior proposal because we view this as a noncontroversial action and anticipate no adverse comments. A detailed rationale for the approval is set forth in the direct final rule. If no adverse comments are received in response to this action, no further activity is contemplated in relation to this rule. If we receive adverse comments, the direct final rule will be withdrawn and all public comments received will be addressed in a subsequent final rule based on this proposed rule. We will not institute a second comment period on this action. Any parties interested in commenting on this action should do so at this time.

DATES: Written comments on this proposed rule must be received on or before June 25, 2001.

ADDRESSES: Written comments should be addressed to: Connie Robinson, EPA, Region 10, Office of Air Quality (OAQ-107), 1200 Sixth Avenue, Seattle, WA 98101. Copies of documents relevant to this action are available for public review during normal business hours (8:00 a.m. to 4:30 p.m.) at this same address.

FOR FURTHER INFORMATION CONTACT: Connie Robinson, EPA, Region 10, Office of Air Quality, (OAQ-107), 1200 Sixth Avenue, Seattle, WA 98101, (206) 553-1086.

SUPPLEMENTARY INFORMATION: See the information provided in the Direct Final action of the same title which is located in the Rules and Regulations section of this Federal Register.

Dated: May 16, 2001.
Charles Findley,
Acting Regional Administrator, Region 10.

[FR Doc. 01-13274 Filed 5-24-01; 8:45 am]

BILLING CODE 6560-50-P